DEPARTMENT OF TRANSPORTATION

Federal Aviation Administration

Notice of Intent To Rule on Request To Release Airport Property at the Love Field Airport, Dallas, TX

AGENCY: Federal Aviation Administration (FAA), DOT.

ACTION: Notice of request to release airport property.

SUMMARY: The FAA proposes to rule and invite public comment on the release of land at the Love Field Airport under the provisions of Section 125 of the Wendell H. Ford Aviation Investment Reform Act for the 21st Century (AIR 21).

DATES: Comments must be received on or before September 29, 2008.

ADDRESSES: Comments on this application may be mailed or delivered to the FAA at the following address: Mr. Mike Nicely, Manager, Federal Aviation Administration, Southwest Region, Airports Division, Texas Airports Development Office, ASW-650, Fort Worth, Texas 76193-0650.

In addition, one copy of any comments submitted to the FAA must be mailed or delivered to Mr. Dan Weber, Director of Aviation, at the following address: Dallas Love Field, Department of Aviation, 8008 Cedar Springs, LB 16, Dallas, Texas 75235.

FOR FURTHER INFORMATION CONTACT: Mr. Rodney Clark, Program Manager, Federal Aviation Administration, Texas Airports Development Office, ASW-650, 2601 Meacham Boulevard, Fort Worth, Texas 76193-0650, Telephone: (817) 222-5659, e-mail: Rodney.Clark@faa.gov, fax: (817) 222-5989.

The request to release property may be reviewed in person at this same location.

SUPPLEMENTARY INFORMATION: The FAA invites public comment on the request to release property at the Love Field Airport under the provisions of the AIR 21.

On August 6, 2008, the FAA determined that the request to release property at Love Field Airport, submitted by the City, met the procedural requirements of the Federal Aviation Regulations, Part 155. The FAA may approve the request, in whole or in part, no later than October 6, 2008.

The following is a brief overview of the request:

The City of Dallas requests the release of 2.58 acres of non-aeronautical airport property. The land was acquired by the City of Dallas for use as an airport. The funds generated by the release will be used for upgrading, maintenance, operation and development of the airport.

Any person may inspect the request in person at the FAA office listed above under FOR FURTHER INFORMATION CONTACT.

In addition, any person may, upon request, inspect the application, notice and other documents in person at the Love Field Airport, telephone number (214) 670-6073.

Issued in Fort Worth, Texas, on August 6, 2008.
Kelvin L. Solco,
Manager, Airports Division.

[FR Doc. E8-19897 Filed 8-27-08; 8:45 am]

BILLING CODE 4910-13-M